DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

TIME AND DATE: May 23, 2024, 10:00 a.m.

PLACE: Room 2C, 888 First Street NE, Washington, DC 20426.

STATUS: Open to the public.

MATTERS TO BE CONSIDERED:

Agenda

* Note—Items listed on the agenda may be deleted without further notice.

CONTACT PERSON FOR MORE INFORMATION: Debbie-Anne A. Reese, Acting Secretary, Telephone (202) 502-8400.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1114th—MEETING
[Open meeting—May 23, 2024, 10:00 a.m.]
Item No. | Docket No. | Company
Administrative
A-1 | AD24-1-000 | Agency Administrative Matters.
A-2 | AD24-2-000 | Customer Matters, Reliability, Security and Market Operations.
A-3 | AD06-3-000 | Market Update.
Electric
E-1 | RD24-3-000 | North American Electric Reliability Corporation.
E-2 | RD23-1-002 | North American Electric Reliability Corporation.
E-3 | ER18-1639-028 | Constellation Mystic Power, LLC.
E-4 | ER23-1335-001, ER23-1335-002 | Ameren Illinois Company.
E-5 | EL24-64-000 | Lackawanna Energy Center LLC v. PJM Interconnection, L.L.C.
E-6 | ER24-219-001 | Pacific Gas and Electric Company.
E-7 | ER22-983-006 | ISO New England Inc.
E-8 | ER21-2818-002, EL22-4-002 (consolidated) | Tri-State Generation and Transmission Association, Inc.
| EL21-75-001 | Wheat Belt Public Power District and La Plata Electric Association, Inc.
| EL21-53-001 (unconsolidated) | Northwest Rural Public Power District, San Isabel Electric Association, Inc., San Miguel Power Association, Springer Electric Cooperative, Inc., and United Power, Inc. v. Tri-State Generation and Transmission Association, Inc.
E-9 | ER24-1221-000 | Southwest Power Pool, Inc.
E-10 | ES23-71-000 | ALLETE, Inc.
E-11 | EL24-95-000 | ALLCO FINANCE LIMITED.
| QF16-365-004 | Clinton Solar LLC.
| QF16-366-003, QF16-369-004, QF16-379-004, QF16-381-003, QF16-382-003, QF21-661-001 | Windham Solar LLC.
| QF24-367-001 | Clear Lake Solar LLC.
| QF24-368-001 | Maple Road Solar LLC.
E-12 | ER24-1572-000, EL19-38-002, EL19-38-000 | Pacific Gas and Electric Company City and County of San Francisco v. Pacific Gas and Electric Company.
Gas
G-1 | OR19-22-002, OR19-32-002 (consolidated) | West Texas Gulf Pipe Line Company LLC Permian Express Partners LLC.
Hydro
H-1 | RM24-5-000 | Establishment of Categorical Reasonable Period of Time for Action on Requests for Water Quality Certification under Section 401(a)(1) of the Clean Water Act and Clarifying Types of Hydroelectric Project Proceedings That May Require Water Quality Certification.
H-2 | P-2266-129 | Nevada Irrigation District.
Certificates
C-1 | CP23-519-000 | Rio Bravo Pipeline Company, LLC.
C-2 | CP15-521-001 | Gulf LNG Liquefaction Company, LLC and Gulf LNG Energy, LLC.
C-3 | CP24-70-000 | Rio Grande LNG, LLC, Rio Grande LNG Train 4, LLC, and Rio Grande LNG Train 5, LLC.
C-4 | CP23-513-000 | Port Arthur Pipeline, LLC.
C-5 | CP16-22-007 | NEXUS Gas Transmission, LLC.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: May 16, 2024.
Debbie-Anne A. Reese,
Acting Secretary.

[FR Doc. 2024-11244 Filed 5-17-24; 4:15 pm]

BILLING CODE 6717-01-P